DEPARTMENT OF THE TREASURY

Office of Foreign Assets Control

Sanctions Actions Pursuant to Executive Orders 13667 and 13712

AGENCY: Office of Foreign Assets Control, Treasury.

ACTION: Notice.

SUMMARY: The Treasury Department's Office of Foreign Assets Control (OFAC) is publishing the names of two individuals whose property and interests in property are blocked pursuant to Executive Order (E.O.) 13667 and four individuals whose property and interests in property are blocked pursuant to Executive Order (E.O.) 13712, and whose names have been added to OFAC's list of Specially Designated Nationals and Blocked Persons (SDN List).

DATES: OFAC's actions described in this notice were effective December 18, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Actions

On December 18, 2015, OFAC blocked the property and interests in property of the following two individuals pursuant to E.O. 13667, “Blocking Property of Certain Persons Contributing to the Conflict in the Central African Republic”:

1. GAYE, Haroun (a.k.a. GAYE, Aroun; a.k.a. GEYE, Aroun; a.k.a. GUAYE, Haroun; a.k.a. GUEYE, Haroun), Bangui, Central African Republic; DOB 30 Jan 1968; alt. DOB 30 Jan 1969; Passport O00065872 (Central African Republic) expires 30 Dec 2019 (individual) [CAR].

2. NGAIKOSSET, Eugene Barret (a.k.a. NGAIKOISSET, Eugene; a.k.a. NGAIKOSSE, Eugene Barret; a.k.a. NGAIKOUESSET, Eugene; a.k.a. NGAKOSSET, Eugene; a.k.a. “The Butcher of Paoua”), Bangui, Central African Republic; DOB 08 Oct 1967; alt. DOB 10 Aug 1967; POB Bossangoa, Central African Republic; nationality Central African Republic; Identification Number 911-10-77 (Central African Republic) (individual) [CAR].

Also on December 18, 2015, OFAC blocked the property and interests in property of the following four individuals pursuant to E.O. 13712, “Blocking Property of Certain Persons Contributing to the Situation in Burundi”:

1. NDIRAKOBUCA, Gervais (a.k.a. NDIRAKOBUCHA, Gervais; a.k.a. “Ndakugarika”), Burundi; DOB 01 Aug 1970; nationality Burundi; Passport DP0000761; General; Chief of Staff, Ministry of Public Security; Chief of Cabinet for Police Affairs; Burundian National Police Chief of Cabinet (individual) [BURUNDI].

2. NGENDAKUMANA, Leonard; DOB 24 Nov 1968; nationality Burundi; Passport DP0000885; General; Burundian National Intelligence Service (SNR) Cabinet Chief (former) (individual) [BURUNDI].

3. NIYONZIMA, Joseph (a.k.a. NIJONZIMA, Joseph; a.k.a. NIYONZIMA, Mathias Joseph; a.k.a. NIYONZIMA, Salvator; a.k.a. “Kazungu”), Kinanira III, Kinindo, Bujumbura 257, Burundi; DOB 17 May 1960; alt. DOB 17 Jun 1960; alt. DOB 02 Jan 1967; alt. DOB 06 Mar 1956; POB Bukeye, Burundi; alt. POB Kanyosha Commune, Mubimbi, Bujumbura-Rural Province, Burundi; nationality Burundi; Passport OP0053090 (Burundi); alt. Passport OP0000185 (Burundi) issued 28 Jul 2011 expires 28 Jul 2016 (individual) [BURUNDI].

4. SINDUHIJE, (a.k.a. SINHUHIJE, Alexis); DOB 05 May 1967; alt. DOB 05 May 1966; POB Kamenge, Bujumbura, Burundi; nationality Burundi; Gender Male (individual) [BURUNDI].

Dated: December 18, 2015.
John E. Smith,
Acting Director, Office of Foreign Assets Control.

[FR Doc. 2015-32379 Filed 12-23-15; 8:45 am]

BILLING CODE 4810-AL-P